DEPARTMENT OF HEALTH AND HUMAN SERVICES

Centers for Disease Control And Prevention

[60 Day-01-29]

Proposed Data Collections Submitted for Public Comment and Recommendations

In compliance with the requirement of section 3506 (c)(2)(A) of the Paperwork reduction Act of 1995, the Centers for Disease Control and Prevention (CDC) is providing opportunity for public comment on proposed data collection projects. To request more information on the proposed projects or to obtain a copy of the data collection plans and instruments, call the CDC Reports Clearance Officer at (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne E. O'Connor, CDC Assistant Reports Clearance Officer, 1600 Clifton Road, MS-D24, Atlanta, GA 30333. Written comments should be received within 60 days of this notice.

Proposed Projects

Evaluation of Viral Hepatitis B Educational Slide Materials—New—National Center for Infectious Disease (NCID), Centers for Disease Control and Prevention (CDC). The purpose of the proposed study is to assess the usefulness of the Hepatitis B and You, an educational slide set located on the website of the Hepatitis Branch, NCID, CDC. The Hepatitis B and You educational slide set is used to educate persons about hepatitis B in general and more specifically the importance of hepatitis B vaccination to prevent perinatal transmission of hepatitis B virus (HBV). An estimated 1.25 million Americans are chronically infected with HBV and 4,000 to 5,000 die each year due to resultant cirrhosis and liver cancer. The estimated cost associated with HBV infections is $700 million a year in medical care and lost work days. The only cost to respondents is their time to participate which is estimated at $4,140.00 (414 hours × $10.00 per hour).

Form name | Number of respondents | Number of responses per respondent | Ave. burden per response (in hours) | Total response burden (in hours)
Web | 1656 | 1 | 15/60 | 414

Date: April 4, 2001.
Nancy E. Cheal,
Acting Associate Director for Policy, Planning, and Evaluation Centers for Disease Control and Prevention (CDC).

[FR Doc. 01-8879 Filed 4-10-01; 8:45 am]

BILLING CODE 4163-18-P